DEPARTMENT OF COMMERCE

International Trade Administration

[A-583-831]

Stainless Steel Sheet and Strip in Coils From Taiwan: Preliminary Results and Rescission of Antidumping Duty Administrative Review, in Part, and Preliminary Determination of No Shipments; 2023-2024

AGENCY: Enforcement and Compliance, International Trade Administration, Department of Commerce.

SUMMARY: The U.S. Department of Commerce (Commerce) preliminarily finds that sales of stainless steel sheet and strip in coils (SSSSC) from Taiwan have been made at less than normal value during the period of review (POR), July 1, 2023, through June 30, 2024. Commerce also preliminarily finds that Yieh United Steel Company (YUSCO) had no shipments to the United States during the POR. Additionally, Commerce preliminarily determines that 22 companies for which we initiated a review had no suspended entries during the POR. Interested parties are invited to comment on these preliminary results.

DATES: Applicable July 7, 2025.

FOR FURTHER INFORMATION CONTACT: Christopher Maciuba, AD/CVD Operations, Office II, Enforcement and Compliance, International Trade Administration, U.S. Department of Commerce, 1401 Constitution Avenue NW, Washington, DC 20203; telephone: (202) 482-0413.

SUPPLEMENTARY INFORMATION:

Background

On July 27, 1999, Commerce published in the Federal Register the antidumping duty (AD) order on SSSSC from Taiwan.¹ On July 1, 2024, Commerce published in the Federal Register a notice of opportunity to request an administrative review of the Order.² On August 14, 2024, based on timely requests for review, in accordance with 19 CFR 351.221(c)(1)(i), we initiated an AD review of 83 producers and exporters of the subject merchandise.³ This review covers three producers and/or exporters of the subject merchandise. Commerce selected two companies, Shiner Steel International Ltd. (Shiner Steel) and Yuan Long Stainless Steel Corp (Yuan Long) for individual examination.⁴ On December 9, 2024, Commerce tolled certain deadlines in this administrative review by 90 days.⁵ The current deadline for the preliminary results of this review is July 1, 2025.

¹ See Notice of Antidumping Duty Order; Stainless Steel Sheet and Strip in Coils from United Kingdom, Taiwan, and South Korea, 64 FR 40555 (July 27, 1999) (Order).

² See Antidumping or Countervailing Duty Order, Finding, or Suspended Investigation; Opportunity To Request Administrative Review and Join Annual Inquiry Service List, 89 FR 54437 (July 1, 2024).

³ See Initiation of Antidumping and Countervailing Duty Administrative Reviews, 89 FR 66035 (August 14, 2024) (Initiation Notice).

⁴ See Memorandum, “Respondent Selection,” dated March 4, 2023.

⁵ See Memorandum, “Tolling of Deadlines for Antidumping and Countervailing Duty Proceedings,” dated December 9, 2024.

For a complete description of the events that followed the initiation of this review, see the Preliminary Decision Memorandum.⁶

⁶ See Memorandum, “Decision Memorandum for the Preliminary Results of the Administrative Review of the Antidumping Duty Order on Stainless Steel Sheet and Strip in Coils from Taiwan; 2023-2024,” dated concurrently with, and hereby adopted by, this notice (Preliminary Decision Memorandum).

Scope of the Order

The merchandise subject to the Order is certain stainless steel sheet and strip in coils. For the complete description of the scope of the Order, see the Preliminary Decision Memorandum.

Partial Rescission of Administrative Review

Pursuant to 19 CFR 351.213(d)(1), the Secretary will rescind an administrative review, in whole or in part, if a party who requested the review withdraws the request within 90 days of the date of publication of notice of initiation of the requested review. On September 26, 2024, North American Stainless and Outokumpu Stainless USA, LLC, (collectively, domestic interested parties) timely partially withdrew their request for an administrative review for 58 companies.⁷ Because no other party requested a review these 58 companies, we are rescinding the administrative review for these companies in accordance with 19 CFR 351.213(d)(1).⁸ For a complete list of those companies for which all requests for administrative review were withdrawn, see Appendix II.

⁷ See Domestic Interested Parties' Letter, “Domestic Interested Parties' Partial Withdrawal of Request for Administrative Review,” dated September 26, 2024.

⁸ See Appendix II for the list of companies for which we are rescinding the review due to the withdrawal of all review requests.

Pursuant to 19 CFR 351.213(d)(3), it is Commerce's practice to rescind an administrative review when there are no reviewable entries of subject merchandise during the POR for which liquidation is suspended.⁹ Normally, upon completion of an administrative review, the suspended entries are liquidated at the AD assessment rate calculated for the review period.¹⁰ Therefore, to conduct an administrative review of a company, there must be a suspended entry that Commerce can instruct U.S. Customs and Border Protection (CBP) to liquidate at the AD assessment rate calculated for the POR.¹¹

⁹ See, e.g., Large Diameter Welded Pipe from Greece: Rescission of Antidumping Duty Administrative Review; 2022-2023, 89 FR 4274 (January 23, 2024).

¹⁰ See 19 CFR 351.212(b)(1).

¹¹ See 19 CFR 351.213(d)(3).

On January 3, 2025, we notified parties of our intent to rescind this administrative review, in part, with respect to the 22 companies listed in Appendix III because there were no suspended entries of subject merchandise produced or exported by these companies during the POR. We invited interested parties to comment.¹² No parties commented on our intent to rescind the review, in part. In the absence of suspended entries of subject merchandise from these companies during the POR, we are rescinding, in part, the administrative review for the 22 companies listed in Appendix III, in accordance with 19 CFR 351.213(d)(3).

¹² See Memorandum, “Notice of Intent to Rescind Review, In Part,” dated January 3, 2025.

Methodology

Commerce is conducting this review in accordance with sections 751(a)(1)(B) and (2) of the Tariff Act of 1930, as amended (the Act). Commerce has preliminarily relied entirely upon facts otherwise available with adverse inferences (AFA) for both Shiner Steel and Yuan Long.

For a full description of the methodology underlying our conclusions, see the Preliminary Decision Memorandum. A list of the topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Determination of No Shipments

Based on record information, we preliminarily determine that YUSCO did not have knowledge that the subject merchandise was destined for the United States, and, thus, YUSCO is not considered the exporter of subject merchandise during the POR for the purposes of this review.¹³ Therefore, we preliminarily determine that YUSCO made no shipments of subject merchandise during the POR. Consistent with Commerce's practice, we find that it is not appropriate to rescind the review with respect to YUSCO, but rather to complete the review and issue appropriate instructions to CBP based on the final results of this review.¹⁴

¹³ See Preliminary Decision Memorandum.

¹⁴ See Antidumping and Countervailing Duty Proceedings: Assessment of Antidumping Duties, 68 FR 23954, 23958 (May 6, 2003) (AD Assessment).

Preliminary Results of the Review

As a result of this review, we preliminarily determine that the following estimated weighted-average dumping margins exist for the period July 1, 2023, through June 30, 2024:

Exporter/producer | Weighted- average dumping margin (percent)
Shiner Steel International Ltd | 21.10
Yuan Long Stainless Steel Ltd | 21.10

Disclosure

Normally, Commerce discloses to interested parties the calculations performed in connection with a preliminary determination within five days of any public announcement or, if there is no public announcement, within five days of the date of publication of the notice of preliminary determination in the Federal Register, in accordance with 19 CFR 351.224(b). However, because Commerce preliminarily applied total AFA to the mandatory respondents Shiner Steel and Yuan Long in this administrative review, and the applied AFA rate is based on a rate calculated for a respondent in a prior segment of this proceeding, there are no calculations to disclose.

Public Comment

Case briefs or other written comments may be submitted to the Assistant Secretary for Enforcement and Compliance. Pursuant to 19 CFR 351.309(c)(1)(ii), we have modified the deadline for interested parties to submit case briefs to Commerce to no later than 21 days after the date of the publication of this notice.¹⁵ Rebuttal briefs, limited to issues raised in the case briefs, may be filed not later than five days after the date for filing case briefs.¹⁶ Parties who submit case briefs or rebuttal briefs in this proceeding are encouraged to submit with each argument: (1) a statement of the issue; and (2) a table of authorities.¹⁷ All briefs must be filed electronically using ACCESS. An electronically filed document must be received successfully in its entirety in ACCESS by 5:00 p.m. Eastern Time on the established deadline.

¹⁵ See 19 CFR 351.309.

¹⁶ See 19 CFR 351.309(d); see also Administrative Protective Order, Service, and Other Procedures in Antidumping and Countervailing Duty Proceedings, 88 FR 67069, 67077 (September 29, 2023) (APO and Service Final Rule).

¹⁷ See 19 CFR 351.309(c)(2) and (d)(2).

Pursuant to 19 CFR 351.310(c), interested parties who wish to request a hearing must submit a written request to the Acting Assistant Secretary for Enforcement and Compliance, U.S. Department of Commerce, filed electronically via ACCESS within 30 days after publication of this notice.¹⁸ Hearing requests should contain: (1) the party's name, address, and telephone number; (2) the number of participants; and (3) a list of issues to be discussed. Oral presentations at the hearing will be limited to issues raised in the briefs. If a request for a hearing is made, Commerce intends to hold the hearing at a date and time to be determined.¹⁹ Parties should confirm by telephone the date and time of the hearing two days before the scheduled date. An electronically filed document must be received successfully in its entirety by ACCESS by 5:00 p.m. Eastern Time on the established deadline.

¹⁸ See 19 CFR 351.310(c).

¹⁹ See 19 CFR 351.310(d).

Commerce intends to issue the final results of this administrative review, including the results of its analysis raised in any written briefs, not later than 120 days after the publication date of this notice, pursuant to section 751(a)(3)(A) of the Act, unless otherwise extended.

Assessment Rates

Upon completion of the administrative review, Commerce shall determine, and CBP shall assess, AD duties on all appropriate entries covered by this review.²⁰ The final results of this review shall be the basis for the assessment of AD duties on entries of merchandise covered by the final results of this review and for future deposits of estimated duties, where applicable.²¹

²⁰ See 19 CFR 351.212(b)(1).

²¹ See section 751(a)(2)(C) of the Act.

Commerce's “automatic assessment” practice will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.²²

²² For a full discussion of this practice, see AD Assessment.

Further, if we continue to find in the final results that YUSCO had no shipments of subject merchandise during the POR, we will instruct CBP to liquidate any suspended entries that entered under their AD case number (i.e., at YUSCO's cash deposit rate) at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of subject merchandise entered, or withdrawn from warehouse, for consumption on or after the publication date of the final results of this administrative review, as provided by section 751(a)(2)(C) of the Act: (1) the cash deposit rate for the exporters listed above will be that established in the final results of this review, except if the rate is less than 0.50 percent and, therefore, de minimis within the meaning of 19 CFR 351.106(c)(1), in which case the cash deposit rate will be zero; (2) for previously reviewed or investigated companies not participating in this review, the cash deposit rate will continue to be the company-specific rate published for the most recently-completed segment of this proceeding in which the company was reviewed; (3) if the exporter is not a firm covered in this review or previous segment, but the manufacturer is, then the cash deposit rate will be the rate established for the most recently-completed segment for the manufacturer of the subject merchandise; and (4) the cash deposit rate for all other producers or exporters will continue to be 12.61 percent, the all-others rate established in the less-than-fair-value investigation.²³ These deposit requirements, when imposed, shall remain in effect until further notice.

²³ See Order.

Final Results of Review

Unless the deadline is otherwise extended, Commerce intends to issue the final results of this administrative review, including the results of its analysis of issues raised by interested parties in the written comments, within 120 days after the date of publication of these preliminary results in the Federal Register.²⁴

²⁴ See section 751(a)(3)(A) of the Act; and 19 CFR 351.213(h).

Notification to Importers

This notice serves as a reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act.

Dated: June 30, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Preliminary Determination of No Shipments

V. Discussion of the Methodology

VI. Recommendation

Appendix II

Companies for Which All Review Requests Were Withdrawn

1. Broad International Resources Ltd.

2. Chain Chon Industrial Co., Ltd.

3. Cheng Feng Plastic Co., Ltd.

4. Chia Far Industrial Factory Co., Ltd.

5. Chien Shing Stainless Co.

6. China Steel Corporation

7. Chung Hung Steel Corp.

8. Chyang Dah Stainless Co., Ltd.

9. Da-Tsai Stainless Steel Co., Ltd.

10. Dah Shi Metal Industrial Co., Ltd.

11. DB Schenker (HK) Ltd. Taiwan Branch

12. DHV Technical Information Co., Ltd.

13. Froch Enterprises Co., Ltd.

14. Gang Jou Enterprise Co., Ltd.

15. Genn Hann Stainless Steel Enterprise Co., Ltd.

16. Goang Jau Shing Enterprise Co., Ltd.

17. Goldioceans International Co., Ltd.

18. Gotosteel Ltd.

19. Grace Alloy Corp.

20. Hung Shuh Enterprises Co., Ltd.

21. Hwang Dah Steel Inc.

22. Jie Jin Stainless Steel Industry Co., Ltd.

23. JJSE Co., Ltd.

24. KNS Enterprise Co., Ltd.

25. Lancer Ent. Co., Ltd.

26. Lien Chy Laminated Metal Co., Ltd.

27. Lien Kuo Metal Industries Co., Ltd.

28. Lih Chan Steel Co., Ltd.

29. Lung An Stainless Steel Ind. Co., Ltd.

30. Master United Corp.

31. Maytun International Corp.

32. NKS Steel Ind. Ltd.

33. PFP Taiwan Co., Ltd.

34. Po Chwen Metal

35. Prime Rocks Co., Ltd.

36. S More Steel Materials Co., Ltd.

37. Shih Yuan Stainless Steel Enterprise Co., Ltd.

38. Silineal Enterprises Co., Ltd.

39. Stanch Stainless Steel Co., Ltd.

40. Ta Chen Stainless Pipe Company Ltd.

41. Tah Lee Special Steel Co., Ltd.

42. Taiwan Nippon Steel Stainless

43. Tang Eng Iron Works Company, Ltd.

44. Teng Yao Hardware Industrial Co., Ltd.

45. Tibest International Inc.

46. Ton Yi Industrial Corp.

47. Tsai See Enterprise Co., Ltd.

48. Vasteel Enterprises Co., Ltd.

49. Vulcan Industrial Corporation

50. Wuu Jing Enterprise Co., Ltd.

51. Yc Inox Co., Ltd.

52. Yes Stainless International Co., Ltd.

53. Yieh Mau Corporation

54. Yieh Phui Enterprise Co., Ltd.

55. Yu Ting Industrial Co., Ltd.

56. Yue Seng Industrial Co., Ltd.

57. Yuen Chang Stainless Steel Co., Ltd.

58. Yung Fa Steel & Iron Industry Co., Ltd.

Appendix III

Companies Which Had No Reviewable Entries During the POR

1. Auto Star Ind. Co., Ltd.

2. Best Win International

3. Chang Mien Industries Co., Ltd.

4. Ching Hann Ind Co., Ltd.

5. China Steel Global Trading Corporation

6. Dinli Metal Industrial Co., Ltd.

7. Dyaco International Inc.

8. General Merchandise Consolidators Inc.

9. Gold Classic Enterprise Ltd.

10. Hwa Yang Stainless Steel Ind. Corp.

11. Intai Technology Corp.

12. Jk Industrial Development Corp.

13. Meglobe Co., Ltd.

14. Prosperity Tieh Enterprise Co., Ltd.

15. Sunmax Industrial Inc.

16. Tung Mung Development Co., Ltd

17. Top Sunny Group Corp.

18. Unity Special Steel Co., Ltd.

19. Wexcel International Co., Ltd.

20. Yieh Corp; Yieh Trading Corporation

21. Yeou Yih Steel Co., Ltd.

22. Yeou Ting Industries Co., Ltd.

[FR Doc. 2025-12572 Filed 7-3-25; 8:45 am]

BILLING CODE 3510-DS-P